DEPARTMENT OF THE INTERIOR

Office of the Secretary

Trust Land Consolidation Draft Plan

AGENCY: Office of the Secretary, Interior.

ACTION: Notice of Availability, Comment Period Reopening.

SUMMARY: The Cobell Class Action Settlement Agreement established a trust land consolidation fund to be used for consolidating Indian trust and restricted lands and acquiring fractional interests in these lands. We are reopening the period for commenting on the Cobell Land Consolidation Program Draft Plan (also known as the Trust Land Consolidation Draft Plan), which is the draft plan for accomplishing these goals.

DATES: Submit comments by April 3, 2012.

ADDRESSES: Submit comments on the draft plan to: Elizabeth Appel, Bureau of Indian Affairs, 1001 Indian School Road NW., Suite 312, Albuquerque, NM 87104; Email: elizabeth.appel@bia.gov. You can request copies of the draft plan by sending a letter or email to one of the above addresses or by calling 505-563-3805.

FOR FURTHER INFORMATION CONTACT: Kallie Hanley, Department of the Interior, 1849 C Street NW., Washington, DC 20240; Telephone 202-208-5397; Email: kallie_hanley@ios.doi.gov.

SUPPLEMENTARY INFORMATION: On February 3, 2012, we published a notice announcing the availability of the trust land consolidation draft plan (77 FR 5528) and requesting comments by March 19, 2012. This notice reopens the comment period; the new deadline for our receipt of comments on the draft plan to April 3, 2012.

Dated: March 19, 2012.
David J. Hayes,
Deputy Secretary of the Interior.

[FR Doc. 2012-7131 Filed 3-22-12; 8:45 am]

BILLING CODE 4310-10-P